DEPARTMENT OF HOMELAND SECURITY

Bureau of Customs and Border Protection

Notice of Cancellation of Customs Broker License Due to Death of the License Holder

AGENCY: Bureau of Customs and Border Protection, U.S. Department of Homeland Security.

ACTION: General notice.

SUMMARY: Notice is hereby given that, pursuant to title 19 of the Code of Federal Regulations § 111.51(a), the following individual Customs broker licenses and any and all permits have been cancelled due to the death of the broker:

Name | License No. | Port name
Emil F. Benja | 2274 | New York.
James T. Wanka | 6585 | New York.
Paul W. Kelley | 13080 | New York.
Patricia E. Orantes | 13630 | New York.
Harold I. Pepper | 3584 | New York.
Herbert Broner | 5593 | New York.

Dated: April 19, 2005.
Jayson P. Ahern,
Assistant Commissioner, Office of Field Operations.

[FR Doc. 05-8496 Filed 4-27-05; 8:45 am]

BILLING CODE 4820-02-P